DEPARTMENT OF THE INTERIOR

Bureau of Land Management

[ES-960-1420-BJ; ES-50988, Group 198, Florida]

Notice of Filing of Plat of Survey; Florida

The plat of the metes-and-bounds survey of a division line in former lot 14, being the boundary between lots 17 and 18 of section 31, Township 40 South, Range 43 East, Tallahassee Meridian, Florida, will be officially filed in Eastern States, Springfield, Virginia at 7:30 a.m., on May 18, 2001.

The survey was made at the request of the Jackson Field Office on behalf of the U. S. Coast Guard.

All inquiries or protests concerning the technical aspects of the survey must be sent to the Chief Cadastral Surveyor, Eastern States, Bureau of Land Management, 7450 Boston Boulevard, Springfield, Virginia 22153, prior to 7:30 a.m., May 18, 2001.

Copies of the plat will be made available upon request and prepayment of the appropriate fee.

Dated: March 29, 2001.
Joseph W. Beaudin,
Chief Cadastral Surveyor.

[FR Doc. 01-8654 Filed 4-6-01; 8:45 am]

BILLING CODE 4310-GJ-P